NUCLEAR REGULATORY COMMISSION

Sunshine Act Meeting Notice

AGENCY HOLDING THE MEETINGS: Nuclear Regulatory Commission.

DATE: Week of February 26, 2007.

PLACE: Commissioners' Conference Room, 11555 Rockville Pike, Rockville, Maryland.

STATUS: Public and Closed.

ADDITIONAL MATTERS TO BE CONSIDERED:

Week of February 26, 2007—Tentative

Monday, February 26, 2007

1:05 p.m. Affirmation Session (Public Meeting) (Tentative)

a. AmerGen Energy Company, LLC (License Renewal for Oyster Creek Nuclear Generating Station) Docket No. 50-0219, Remaining Legal challenges to LBP-06-07 (Tentative)

b. Nuclear Management Co., LLC (Palisades Nuclear Plant, license renewal application); response to “Notice” relating to San Louis Obispo Mothers for Peace (Tentative)

c. System Energy Resources, Inc. (Early Site Permit for Grand Gulf ESP Site); response to NEPA/terrorism issue (Tentative)

d. Pacific Gas & Electric Co. (Diablo Canyon ISFSI), Docket No. 72-26-ISFSI (Tentative)

* * * * *

*The schedule for Commission meetings is subject to change on short notice. To verify the status of meetings call (recording)—(301) 415-1292. Contact person for more information: Michelle Schroll, (301) 415-1662.

* * * * *

ADDITIONAL INFORMATION: By a vote of 5-0 on February 23, 2007, the Commission determined pursuant to U.S.C. 552b(e) and § 9.107(a) of the Commission's rules that “Affirmation of a. AmerGen Energy Company, LLC (License Renewal for Oyster Creek Nuclear Generating Station) Docket No. 50-0219, Remaining Legal challenges to LBP-06-07 (Tentative); b. Nuclear Management Co., LLC (Palisades Nuclear Plant, license renewal application); response to “Notice” relating to San Louis Obispo Mothers for Peace (Tentative); c. System Energy Resources, Inc. (Early Site Permit for Grand Gulf ESP Site); response to NEPA/terrorism issue (Tentative); d. Pacific Gas & Electric Co. (Diablo Canyon ISFSI), Docket No. 72-26-ISFSI (Tentative)” be held February 26, 2007, and on less than one week's notice to the public.

Affirmation of “Exelon Generation Company, LLC (Early Site Permit for Clinton ESP)” tentatively scheduled on February 26, 2007, has been postponed and will be rescheduled.

* * * * *

The NRC Commission Meeting Schedule can be found on the Internet at: www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 23, 2007.
Michelle Schroll,
Office of the Secretary,

[FR Doc. 07-998 Filed 2-28-07; 5:10 pm]

BILLING CODE 7590-01-P